NATIONAL AERONAUTICS AND SPACE ADMINSTRATION

[Notice 14-025]

National Environmental Policy Act; Santa Susana Field Laboratory

AGENCY: National Aeronautics and Space Administration (NASA).

ACTION: Notice of Availability of the Final Environmental Impact Statement (FEIS) for Demolition and Environmental Cleanup Activities for the NASA-administered portion of the Santa Susana Field Laboratory (SSFL), Ventura County, California.

SUMMARY: Pursuant to the National Environmental Policy Act (NEPA), as amended (42 U.S.C. 4321 et seq.), the Council on Environmental Quality Regulations for Implementing the Procedural Provisions of NEPA (40 CFR Parts 1500-1508), and NASA's NEPA policy and procedures (14 CFR Part 1216, subpart 1216.3), NASA has prepared a FEIS for demolition and cleanup activities at SSFL in Ventura County, California. Furthermore, pursuant to 36 CFR 800.8(c) of the National Historic Preservation Act (NHPA), NASA will use the NEPA process and the FEIS it produces to comply with Section 106 of NHPA in lieu of the procedures set forth in Sections 800.3 through 800.6.

DATES: NASA will take no final action on the proposed action before thirty (30) calendar days from the date of publication in the Federal Register of the U.S. Environmental Protection Agency's Notice of Availability of the FEIS. Once known, this date will be published on the project Web site address listed below.

http://www.nasa.gov/agency/nepa/news/SSFL.html

ADDRESSES: The FEIS may be reviewed at the following locations:

1. Simi Valley Library

2969 Tapo Canyon Road, Simi Valley, CA 93063, Web site: http://simivalleylibrary.org/home/, Phone: (805) 526-1735.

2. Platt Library

23600 Victory Blvd., Woodland Hills, CA 91367, Web site: http://www.lapl.org/branches/platt, Phone: (818) 340-9386.

3. California State University, Northridge Oviatt Library

18111 Nordhoff Street, 2nd Floor, Room 265, Northridge, CA 91330, Web site: http://library.csun.edu, Phone: (818) 677-2285.

4. Department of Toxic Substances Control

9211 Oakdale Avenue, Chatsworth, CA 91311, Web site: http://www.dtsc.ca.gov, Phone: (818) 717-6521.

The FEIS is available on the internet in Adobe® portable document format at http://www.nasa.gov/agency/nepa/news/SSFL.html.

FOR FURTHER INFORMATION CONTACT: Allen Elliott, SSFL Project Director, by phone at (256) 544-0662 or by email at msfc-ssfl-eis@mail.nasa.gov. Additional information about NASA's SSFL site, the proposed demolition and cleanup activities, and the associated EIS planning process and documentation (as available) may be found on the internet at http://ssfl.msfc.nasa.gov.

SUPPLEMENTARY INFORMATION:

Decision To Be Made

This FEIS informs NASA decision makers, regulating agencies, and the public of the potential environmental consequences of the proposed demolition of SSFL buildings and structures and the impacts of using the proposed technologies to achieve groundwater and soil remediation, as implemented through the Proposed Action. This FEIS analyzes a range of remedial technologies that might be implemented to achieve the proposed groundwater and soil remediation goals. NASA will use the FEIS analysis to consider the potential environmental and socioeconomic impacts from the Proposed Action. NASA's analysis includes evaluation of cumulative activities that might occur in the same area or timeframe as the Proposed Action. These activities were evaluated to identify potential environmental impacts that, when added to the Proposed Action's impacts, would result in a cumulative effect as a result of past, present, and reasonably foreseeable future actions. The EIS considered the Proposed Action with the adjacent environmental cleanup activities being conducted by DOE and Boeing. On the basis of the FEIS findings, NASA will issue a Record of Decision (ROD) documenting the findings.

Site Description

The SSFL site is 2,850 acres located in Ventura County, California, approximately seven miles northwest of Canoga Park and approximately 30 miles northwest of downtown Los Angeles. SSFL is composed of four areas known as Areas I, II, III, and IV and two unnumbered areas known as the “undeveloped land.” NASA administers 41.7 acres within Area I and all 409.5 acres of Area II. The Boeing Company manages the remaining 2,398.8 acres within Areas I, III, and IV, and the two undeveloped areas.

Since the mid-1950s, when the two federally owned areas were administered by the U.S. Air Force, this site has been used for developing and testing rocket engines. Four test stand complexes were constructed in Area II between 1954 and 1957 named Alfa, Bravo, Coca, and Delta. Area II and the LOX Plant portion of Area I were acquired by NASA from the U.S. Air Force in the 1970s. The extant test stands and related ancillary structures have been found to have historical significance based on the historic importance of the engine testing and the engineering and design of the structures and are eligible for listing on the National Register of Historic Places (NRHP).

The NASA-administered areas of SSFL also contain cultural resources not related to rocket development including the Burro Flats Painted Cave listed on the NRHP. SSFL is located near the crest of the Simi Hills that are part of the Santa Monica Mountains running east-west across Southern California. The diverse terrain consists of ridges, canyons, and sandstone rock outcrops. The region was occupied by Native Americans from the earliest Chumash and Gabrieleño cultures.

Previous environmental sampling on the NASA-administered property indicates that metals, dioxins, polychlorinated biphenyls (PCBs), volatile organics, and semivolatile organics are present in the soils and upper groundwater (known as the Surficial Media Operable Unit). Volatile organics, metals, and semivolatile organics are also present in the deeper groundwater (known as the Chatsworth Formation Operable Unit).

Environmental Commitments and Associated Environmental Review

Consistent with statute and regulations, on September 14, 2009, NASA notified the General Services Administration (GSA) that it reported the NASA-administered SSFL parcels as excess. GSA is the federal agency responsible for undertaking all activities relating to transfer of these federal lands to another party, including how the public will be kept involved. NASA remains the landholder and custodian of the site. GSA has conditionally accepted that report pending (i) NASA's certification that all action necessary to protect human health and the environment with respect to hazardous substances on the property has been taken or receipt of EPA's written concurrence that an approved and installed remedial design is operating properly and successfully; OR (ii) the Governor's concurrence in the suitability of the property for transfer per CERCLA Section 120(h)(3)(C).

In 2007, a Consent Order among NASA, Boeing, the Department of Energy (DOE), and Department of Toxic Substances Control (DTSC) for the State of California was signed addressing the environmental cleanup of soil and groundwater at SSFL. NASA entered into an Administrative Order on Consent (AOC) for Remedial Action with DTSC on December 6, 2010 with respect to the cleanup of soils at SSFL. Based on the 2010 AOC, NASA is required to complete a federal environmental review pursuant to NEPA. An EIS is being prepared by NASA to include demolition of site infrastructure and soil cleanup (pursuant to the AOC), and groundwater remediation within Area II and a portion of Area I (Liquid Oxygen [LOX] Plant) of SSFL (pursuant to the 2007 Consent Order). As part of the environmental review process, certain studies have been or are being completed, to characterize the existing conditions and to inform the analysis and consultation. These include surveys for wildlife, critical habitat, rare plants, wetlands, and archaeological and cultural resources. The findings of these studies have been incorporated into the FEIS.

Alternatives

To prepare SSFL for disposition, NASA describes the demolition of SSFL structures and cleanup of the site necessary to meet only the strictest cleanup alternative, as dictated by the 2007 Consent Order and the 2010 AOC requirements, and the “No Action” alternative required by NEPA. During the Scoping Process, per the standard consistent with the alternatives evaluated under previous Superfund or Resource Conservation and Recovery Act (RCRA) cleanup processes, NASA originally proposed to evaluate a range of cleanup standard levels, including the “Cleanup to Background” alternative required by the AOC, the “No Action” alternative required by NEPA, and other alternatives that are, consistent with the potential future use of the land. The latter alternatives included soil cleanup requirements to suburban residential, to industrial, and to recreational cleanup standards. Based on comments from some members of the public, DTSC, Congressional members, and guidance from the White House's Council on Environmental Quality, the FEIS now considers only the strictest “Cleanup to Background” and the required “No Action” alternatives. All other cleanup alternatives proposed during Scoping Process were specifically removed from the FEIS.

The FEIS will consider a range of alternative technologies that meet NASA's objectives to clean up soil and groundwater contamination at the portion of the SSFL site administered by NASA. Implementation of this Proposed Action would occur by implementing one Demolition Alternative and one or more Cleanup Technologies, from the following: (1) Soil Cleanup Technologies: Excavation and Offsite Disposal, Soil Washing, Soil Vapor Extraction, Ex Situ Treatment Using Land Farming, Ex Situ Treatment Using oxidation, In Situ Chemical Oxidation, In Situ Anaerobic or Aerobic Biological Treatment; (2) Groundwater Treatment Technologies: Pump and Treat, Vacuum Extraction, Heat Driven Extraction, In situ Chemical Oxidation, In situ Enhanced Bioremediation, and Monitored Natural Attenuation.

NEPA requires analysis of the “No Action” alternative, which in this case means no environmental cleanup at the site and/or no demolition of test stands and ancillary structures on the NASA-administered property.

GSA will conduct a separate environmental review under NEPA for the action of transferring the land out of NASA stewardship. The options could include reuse or redevelopment of the property under tribal, federal, local, state, or private ownership.

DTSC is preparing a separate Environmental Impact Report (EIR) under the California Environmental Quality Act, which requires that State agencies give major consideration, when regulating public and private activities, to preventing environmental degradation and to identifying environmentally superior mitigations and alternatives, when possible. This State-led environmental review must identify the potentially significant environmental effects of a project and environmentally preferable alternatives to implementing the project. The EIR also indicates the manner in which significant effects could be mitigated or avoided. DTSC will analyze the potential environmental effects of environmental cleanup activities occurring SSFL-wide by NASA, Boeing, and DOE. NASA and DTSC have coordinated during these processes to maintain consistency pertaining to the analysis of the NASA-administered demolition and remedial activities. Cumulative effects of the proposed Boeing, DOE, and NASA demolition and remedial activities at SSFL will be considered. The DTSC EIR is likely to be prepared following publication of NASA's EIS, and could incorporate some of NASA's EIS analysis. A programmatic EIR will be developed that evaluates the remedial activities that will be conducted at SSFL by NASA, Boeing, and DOE, as well as project-specific EIRs that evaluate the localized remedial activities. These DTSC evaluations must be completed prior to NASA implementing its final soil or groundwater cleanup actions.

Olga M. Dominguez,
Assistant Administrator, Office of Strategic Infrastructure.

[FR Doc. 2014-05511 Filed 3-13-14; 8:45 am]

BILLING CODE 7510-13-P